GENERAL SERVICES ADMINISTRATION

[OMB Control No. 3090-0021]

Proposed Collection: Comment Request Entitled Profit and Loss Statement—Operating Statement

AGENCY: Regional Support Division (PMR), GSA.

ACTION: Notice of request for public comments regarding an extension to an existing OMB clearance (3090-0021).

SUMMARY: Under the provisions of the Paperwork Reduction Act of 1995 (44 U.S.C. Chapter 35), the Office of Acquisition Policy will be submitting to the Office of Management and Budget (OMB) a request to review and approve an extension of a currently approved information collection requirement concerning Profit and Loss Statement—Operating Statement. The OMB clearance expires June 30, 2000.

DATES: Comment Due Date: July 3, 2000.

ADDRESSES: Comments regarding this burden estimate or any other aspect of this collection of information, including suggestions for reducing this burden, should be submitted to: Marjorie Ashby, General Services Administration (MVP), Room 4011, 1800 F Street NW, Washington, DC 20405.

FOR FURTHER INFORMATION CONTACT: Deborah Purdie, (202) 501-4226.

SUPPLEMENTARY INFORMATION:

A. Purpose

The Profit and Loss Statement—Operating Statement is the financial planning document in an offeror's proposal to perform a GSA cafeteria service contract and its contents are one factor considered by the contracting officer in deciding to award a contract. The GSA Form 2817 is also the non-ADP financial reporting vehicle used by cafeteria contractors.

B. Annual Reporting Burden

Respondents: 250; annual responses: 250; average hours per response: 1; burden hours: 250

Copy of Proposal

A copy of this proposal may be obtained from the GSA Acquisition Policy Division (MVP), Room 4011, GSA Building, 1800 F Street NW, Washington, DC 20405, or by telephoning (202) 501-3822.

Dated: April 20, 2000.
Sue McIver,
Acting Deputy Associate Administrator for Acquisition Policy.

[FR Doc. 00-10967 Filed 5-2-00; 8:45 am]

BILLING CODE 6820-61-M